DEPARTMENT OF TRANSPORTATION

Federal Motor Carrier Safety Administration

[Docket No. FMCSA-2007-28043]

Hours of Service (HOS) of Drivers; Application for Renewal and Expansion of American Pyrotechnics Association (APA) Exemption From the 14-Hour Rule During Independence Day Celebrations

AGENCY: Federal Motor Carrier Safety Administration (FMCSA), DOT.

ACTION: Notice of application for renewal and expansion of exemption; request for comments.

SUMMARY: The American Pyrotechnics Association (APA) has requested a renewal for 50 APA member-companies of its exemption from FMCSA's regulation prohibiting drivers of commercial motor vehicles (CMVs) from driving after the 14th hour after coming on duty, and the expansion of its exemption to 5 additional carriers. The exemption would apply solely to the operation of CMVs by these 55 APA-member companies in conjunction with staging fireworks shows celebrating Independence Day during the periods June 28-July 8, 2015, and June 28-July 8, 2016, inclusive. During these two periods, approximately 3,200 CMVs and drivers employed by these companies would be allowed to exclude off-duty and sleeper-berth time of any length from the calculation of the 14-hour driving window. These drivers would not be allowed to drive after accumulating a total of 14 hours of on-duty time, following 10 consecutive hours off duty, and would continue to be subject to the 11-hour driving time limit, and the 60- and 70-hour on-duty limits.

DATES: If granted, this exemption would be effective during the periods of June 28, 2015, through July 8, 2015, inclusive, and June 28, 2016, through July 8, 2016, inclusive. The exemption would expire on July 8, 2016 at 11:59 p.m. Comments must be received on or before May 7, 2015.

ADDRESSES: You may submit comments bearing the Federal Docket Management System (FDMS) Docket ID FMCSA-2007-28043 using any of the following methods:

• Federal eRulemaking Portal: Go to www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m., ET, Monday through Friday, except Federal Holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The online Federal document management system is available 24 hours each day, 365 days each year. If you want acknowledgment that we received your comments, please include a self-addressed, stamped envelope or postcard or print the acknowledgment page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Pearlie Robinson, FMCSA Driver and Carrier Operations Division; Office of Carrier, Driver and Vehicle Safety Standards; Telephone: 202-366-4325. Email: MCPSD@dot.gov. If you have questions on viewing or submitting material to the docket, contact Docket Services, telephone (202) 366-9826.

SUPPLEMENTARY INFORMATION:

APA Application for Exemption

The hours-of-service (HOS) rule in 49 CFR 395.3(a)(2) prohibits a property-carrying CMV driver from driving after the 14th hour after coming on duty following 10 consecutive hours off duty. Under 49 U.S.C. 31315 and 31136(e), FMCSA may grant an exemption from the HOS requirements in 49 CFR 395.3(a)(2) for a period of up to 2 years if it finds such exemption would likely achieve a level of safety that is equivalent to, or greater than, the level that would be achieved absent such exemption. The procedures for requesting an exemption (including renewals) are prescribed in 49 CFR part 381.

The APA, a trade association representing the domestic fireworks industry, was previously granted an exemption for 50 of the 55 APA member-companies during the Independence Day periods in 2013 and 2014. The APA held similar 2-year exemptions during Independence Day periods from 2005 through 2014. The 2013-2014 exemption expired on July 9, 2014. Like the other 50 member-companies that operated under the 2013-2015 exemption, the 5 additional member-companies would be subject to all of the terms and conditions of the exemption.

The initial APA exemption application for relief from the 14-hour rule was submitted in 2004; a copy of the application is in the docket. That application fully describes the nature of the pyrotechnic operations of the CMV drivers employed by APA member-companies during a typical Independence Day period.

As stated in APA's 2004 request, the CMV drivers employed by APA member-companies are trained pyro-technicians who hold commercial driver's licenses (CDLs) with hazardous materials (HM) endorsements. They transport fireworks and related equipment by CMVs on a very demanding schedule during a brief Independence Day period, often to remote locations. After they arrive, the drivers are responsible for set-up and staging of the fireworks shows.

The APA states that it is seeking an HOS exemption for the 2015 and 2016 Independence Day periods because compliance with the current 14-hour rule in 49 CFR 395.3(a)(2) by its members would impose a substantial economic hardship on numerous cities, towns and municipalities, as well as its member-companies. To meet the demand for fireworks under the current HOS rules, APA states that its member-companies would be required to hire a second driver for most trips. The APA advises that the result would be a substantial increase in the cost of the fireworks shows—beyond the means of many of its members' customers—and that many Americans would be denied this important component of the celebration of Independence Day. The 55 APA-member companies within the scope of this exemption request are listed in an appendix to this notice. A copy of the request for the exemption is included in the docket referenced at the beginning of this notice.

Method To Ensure an Equivalent or Greater Level of Safety

The APA believes that renewal of the exemption will not adversely affect the safety of the fireworks transportation provided by these motor carriers. According to APA, its member-companies have operated under this exemption for 10 previous Independence Day periods without a reported motor carrier safety incident. Moreover, it asserts, without the extra time provided by the exemption, safety would decline because APA drivers would be unable to return to their home base after each show. They would be forced to park the CMVs carrying HM 1.1G, 1.3G and 1.4G products in areas less secure than the motor carrier's home base. As a condition of holding the exemption, each motor carrier would be required to notify FMCSA within 5 business days of any accident (as defined in 49 CFR 390.5) involving the operation of any its CMVs while under this exemption. To date, FMCSA has received no accident notifications, nor is the Agency aware of any accidents reportable under terms of the prior APA exemptions.

In its exemption request, APA asserts that the operational demands of this unique industry minimize the risks of CMV crashes. In the last few days before the Independence Day holiday, these drivers transport fireworks over relatively short routes from distribution points to the site of the fireworks display, and normally do so in the early morning when traffic is light. At the site, they spend considerable time installing, wiring, and safety-checking the fireworks displays, followed by several hours off duty in the late afternoon and early evening prior to the event. During this time, the drivers are able to rest and nap, thereby reducing or eliminating the fatigue accumulated during the day. Before beginning another duty day, these drivers must take 10 consecutive hours off duty, the same as other CMV drivers.

Terms and Conditions of the Exemption

Period of the Exemption

The requested exemption from the requirements of 49 CFR 395.3(a)(2) is proposed to be effective June 28 through July 8, 2015, inclusive, and from June 28 through July 8, 2016, inclusive. The exemption would expire on July 8, 2016, at 11:59 p.m. local time.

Extent of the Exemption

This exemption would be restricted to drivers employed by the 55 motor carriers listed in the appendix to this notice. The drivers would be given a limited exemption from the requirements of 49 CFR 395.3(a)(2). This regulation prohibits a driver from driving a CMV after the 14th hour after coming on duty and does not permit off-duty periods to extend the 14-hour limit. Drivers covered by this exemption would be able to exclude off-duty and sleeper-berth time of any length from the calculation of the 14-hour limit. This exemption would be contingent on each driver driving no more than 11 hours in the 14-hour period after coming on duty, as extended by any off-duty or sleeper-berth time in accordance with this exception. The exemption would be further contingent on each driver having a full 10 consecutive hours off duty following 14 hours on duty prior to beginning a new driving period. The carriers and drivers must comply with all other requirements of the Federal Motor Carrier Safety Regulations (49 CFR parts 350-399) and Hazardous Materials Regulations (49 CFR parts 105-180).

Preemption

During the periods the exemption would be in effect, no State would be allowed to enforce any law or regulation that conflicted with or with inconsistent with this exemption with respect to a person or entity operating under the exemption (49 U.S.C. 31315(d)).

FMCSA Notification

Exempt motor carriers would be required to notify FMCSA within 5 business days of any accidents (as defined by 49 CFR 390.5) involving the operation of any of their CMVs while under this exemption. The notification must include the following information:

a. Date of the accident,

b. City or town, and State, in which the accident occurred, or which is closest to the scene of the accident,

c. Driver's name and driver's license number,

d. Vehicle number and State license number,

e. Number of individuals suffering physical injury,

f. Number of fatalities,

g. The police-reported cause of the accident,

h. Whether the driver was cited for violation of any traffic laws, or motor carrier safety regulations, and

i. The total driving time and the total on-duty time of the CMV driver at the time of the accident.

Termination

The FMCSA does not believe the motor carriers and drivers covered by this exemption, if granted, would experience any deterioration of their safety record. However, should this occur, FMCSA would take all steps necessary to protect the public interest, including revocation of the exemption. The FMCSA will immediately revoke the exemption for failure to comply with its terms and conditions. Exempt motor carriers and drivers would be subject to FMCSA monitoring while operating under this exemption.

Request for Comments

In accordance with 49 U.S.C. 31315(b)(4) and 31136(e), FMCSA requests public comments on the APA's requested exemption from the requirements of 49 CFR 395.3(a)(2). The FMCSA will review all comments received and determine whether approval of the exemption is consistent with the requirements of 49 U.S.C. 31315.

Issued on: April 1, 2015.
Larry W. Minor,
Associate Administrator for Policy.

Appendix to Notice of Application for Renewal of American Pyrotechnics Association (APA) Exemption From the 14-Hour HOS Rule During 2015 and 2016 Independence Day Celebrations for 50 Motor Carriers
| Motor carrier | Street address | City, state, zip code | DOT No.
1 | American Fireworks Company | 7041 Darrow Road | Hudson, OH 44236 | 103972
2 | American Fireworks Display, LLC | P.O. Box 980 | Oxford, NY 13830 | 2115608
3 | AM Pyrotechnics, LLC | 2429 East 535th Rd | Buffalo, MO 65622 | 1034961
4 | Atlas PyroVision Entertainment Group, Inc | 136 Old Sharon Rd | Jaffrey, NH 03452 | 789777
5 | Central States Fireworks, Inc | 18034 Kincaid Street | Athens, IL 62613 | 1022659
6 | Colonial Fireworks Company | 5225 Telegraph Road | Toledo, OH 43612 | 177274
7 | East Coast Pyrotechnics, Inc | 4652 Catawba River Rd | Catawba, SC 29704 | 545033
8 | Entertainment Fireworks, Inc | 13313 Reeder Road SW | Tenino, WA 98589 | 680942
9 | Falcon Fireworks | 3411 Courthouse Road | Guyton, GA 31312 | 1037954
10 | Fireworks & Stage FX America | 12650 Hwy 67S. Suite B | Lakeside, CA 92040 | 908304
11 | Fireworks by Grucci, Inc | 20 Pinehurst Drive | Bellport, NY 11713 | 324490
12 | J&J Computing dba Fireworks Extravaganza | 174 Route 17 North | Rochelle Park, NJ 07662 | 2064141
13 | Fireworks West Internationale | 910 North 3200 West | Logan, UT 84321 | 245423
14 | Garden State Fireworks, Inc | 383 Carlton Road | Millington, NJ 07946 | 435878
15 | Gateway Fireworks Displays | P.O. Box 39327 | St Louis, MO 63139 | 1325301
16 | Great Lakes Fireworks | 24805 Marine | Eastpointe, MI 48021 | 1011216
17 | Hamburg Fireworks Display, Inc | 2240 Horns Mill Road SE | Lancaster, OH | 395079
18 | Hawaii Explosives & Pyrotechnics, Inc | 17-7850 N. Kulani Road | Mountain View, HI 96771 | 1375918
19 | Hi-Tech FX, LLC | 18060 170th Ave | Yarmouth, IA 52660 | 1549055
20 | Hollywood Pyrotechnics, Inc | 1567 Antler Point | Eagan, MN 55122 | 1061068
21 | Homeland Fireworks, Inc | P.O. Box 7 | Jamieson, OR 97909 | 1377525
22 | Island Fireworks Co., Inc | N1597 County Rd VV | Hager City, WI 54014 | 414583
23 | J&M Displays, Inc | 18064 170th Ave | Yarmouth, IA 52660 | 377461
24 | Lantis Fireworks, Inc | 130 Sodrac Dr., Box 229 | N. Sioux City, SD 57049 | 534052
25 | Legion Fireworks Co., Inc | 10 Legion Lane | Wappingers Falls, NY 12590 | 554391
26 | Miand Inc. dba Planet Productions (Mad Bomber) | P.O. Box 294, 3999 Hupp Road R31 | Kingsbury, IN 46345 | 777176
27 | Martin & Ware Inc. dba Pyro City Maine & Central Maine Pyrotechnics | P.O. Box 322 | Hallowell, ME 04347 | 734974
28 | Melrose Pyrotechnics, Inc | 1 Kinsgubury Industrial Park | Kingsbury, IN 46345 | 434586
29 | Precocious Pyrotechnics, Inc | 4420-278th Ave NW | Belgrade, MN 56312 | 435931
30 | Pyro Engineering Inc., dba/Bay Fireworks | 400 Broadhollow Rd. Ste #3 | Farmindale, NY 11735 | 530262
31 | Pyro Shows Inc | P.O. Box 1776 | LaFollette, TN 37766 | 456818
32 | Pyro Spectacluars, Inc | 3196 N Locust Ave | Rialto, CA 92376 | 029329
33 | Pyro Spectaculars North, Inc | 5301 Lang Avenue | McClellan, CA 95652 | 1671438
34 | Pyrotechnic Display, Inc | 8450 W. St. Francis Rd | Frankfort, IL 60423 | 1929883
35 | Pyrotecnico (S. Vitale Pyrotechnic Industries, Inc.) | 302 Wilson Rd | New Castle, PA 16105 | 526749
36 | Pyrotecnico, LLC | 60 West Ct | Mandeville, LA 70471 | 548303
37 | Pyrotecnico FX | 6965 Speedway Blvd. Suite 115 | Las Vegas, NV 89115 | 1610728
38 | Rainbow Fireworks, Inc | 76 Plum Ave | Inman, KS 67546 | 1139643
39 | RES Specialty Pyrotechnics | 21595 286th St | Belle Plaine, MN 56011 | 523981
40 | Rozzi's Famous Fireworks, Inc | 11605 North Lebanon Rd | Loveland, OH 45140 | 0483686
41 | Skyworks, Ltd | 13513 W. Carrier Rd | Carrier, OK 73727 | 1421047
42 | Spielbauer Fireworks Co, Inc | 220 Roselawn Blvd | Green Bay, WI 54301 | 046479
43 | Starfire Corporation | 682 Cole Road | Carrolltown, PA 15722 | 554645
44 | Vermont Fireworks Co., Inc./Northstar Fireworks Co., Inc | 2235 Vermont Route 14 South | East Montpelier, VT 05651 | 310632
45 | Western Display Fireworks, Ltd | 10946 S. New Era Rd | Canby, OR 97013 | 498941
46 | Western Enterprises, Inc | P.O. Box 160 | Carrier, OK 73727 | 203517
47 | Western Fireworks, Inc | 14592 Ottaway Road NE | Aurora, OR 97002 | 838585
48 | Wolverine Fireworks Display, Inc | 205 W Seidlers | Kawkawlin, MI | 376857
49 | Young Explosives Corp. | P.O. Box 18653 | Rochester, NY 14618 | 450304
50 | Zambelli Fireworks MFG, Co., Inc | P.O. Box 1463 | New Castle, PA 16103 | 033167

Appendix to Notice of Application for Renewal of American Pyrotechnics Association Exemption From the 14-Hour HOS Rule During 2015 and 2016 Independence Day Celebrations for 5 Motor Carriers Not Previously Exempted
| Motor carrier | Street address | City, state, zip code | DOT No.
1 | Pyro Shows of Texas, Inc | 6601 9 Mile Azle Rd | Fort Worth, TX 76135 | 2432196
2 | Sorgi American Fireworks Michigan, LLC | 935 Wales Ridge Rd | Wales, MI 48027 | 2475727
3 | Spirit of 76 | 6401 West Hwy 40 | Columbia, MO 65202 | 2138948
4 | USA Halloween Planet Inc. dba USA Fireworks | 7800 Record Street, Suite A | Indianapolis, IN 46226 | 725457
5 | Arthur Rozzi Pyrotechnics | 6607 Red Hawk Ct | Maineville, OH 45039 | 2008107

[FR Doc. 2015-07906 Filed 4-6-15; 8:45 am]

BILLING CODE CODE 4910-EX-P